DEPARTMENT OF JUSTICE

Notice of Lodging of Consent Decree Under the Comprehensive Environmental Response, Compensation, and Liability Act (CERCLA)

Notice is hereby given that on August 6, 2010, a proposed Consent Decree in the case of U.S. v. Mascot Mines, Inc., et al., Civil Action No. 08-383-EJL, with Defendant Zanetti Brothers, Inc., was lodged with the United States District Court for the District of Idaho.

The United States filed a complaint in September 2008, on behalf of the Environmental Protection Agency (EPA), alleging that Defendant Zanetti Brothers, Inc., is liable pursuant to Section 107(a) of CERCLA for response costs incurred and to be incurred by the United States in connection with Operable Unit Three of the Bunker Hill Mining and Metallurgical Complex Superfund Site in northern Idaho. The proposed Consent Decree grants the Defendant a covenant not to sue for response costs, as well as natural resource damages, in connection with the Site. The United States Department of the Interior, the United States Department of Agriculture, and the Coeur d'Alene Tribe are trustees of injured natural resources at the Site, and the Tribe is a party to the proposed Consent Decree. The settlement requires, among other things, that the Defendant pay $150,000, provide $50,000 worth of construction materials to EPA, and grant an easement to the State of Idaho. The settlement also requires the Defendant to assign its interest in applicable insurance policies to the Coeur d'Alene Basin Insurance Recovery Trust, established for the benefit of EPA and the natural resource trustees.

For thirty (30) days after the date of this publication, the Department of Justice will receive comments relating to the Consent Decree. Comments should be addressed to the Assistant Attorney General, Environment and Natural Resources Division, and either e-mailed to pubcomment-ees.enrd@usdoj.gov or mailed to P.O. Box 7611, U.S. Department of Justice, Washington, DC 20044-7611. In either case, the comments should refer to U.S. v. Mascot Mines, Inc., et al., D.J. Ref. No. 90-11-3-128/7.

During the comment period, the Consent Decree may be examined on the following Department of Justice Web site: http://www.usdoj.gov/enrd/Consent_Decrees.html. A copy of the Consent Decree may also be obtained by mail from the Consent Decree Library, P.O. Box 7611, U.S. Department of Justice, Washington, DC 20044-7611, or by faxing or e-mailing a request to Tonia Fleetwood (tonia.fleetwood@usdoj.gov), fax no. (202) 514-0097, phone confirmation number (202) 514-1547. In requesting a copy from the Consent Decree Library, please enclose a check in the amount of $22.00 (25 cents per page reproduction cost) payable to the United States Treasury or, if by e-mail or fax, forward a check in that amount to the Consent Decree Library at the stated address.

Maureen Katz,
Assistant Chief, Environmental Enforcement Section, Environment and Natural Resources Division.

[FR Doc. 2010-19913 Filed 8-11-10; 8:45 am]

BILLING CODE 4410-15-P